DEPARTMENT OF AGRICULTURE

Forest Service

DEPARTMENT OF THE INTERIOR

RIN 0596-AB99

National Environmental Policy Act Documentation Needed for Fire Management Activities; Categorical Exclusions

AGENCY: Forest Service, USDA, and Department of the Interior.

ACTION: Notice of proposed National Environmental Policy Act implementing procedures; request for comment.

SUMMARY: The Department of Agriculture, Forest Service and Department of the Interior give notice of, and request comment on, their proposal to revise their procedures for implementing the National Environmental Policy Act (NEPA) and Council on Environmental Quality (CEQ) regulations. These revisions are being made to Forest Service Handbook 1909.15, chapter 30, and Department of the Interior Manual 516 DM, chapter 2, Appendix 1, which describe categorical exclusions, i.e., categories of actions that will not result in significant impacts on the environment and therefore normally do not require further analysis in either an environmental assessment or an environmental impact statement. The proposal would add two such categories of actions to the agencies' NEPA procedures: (1) Hazardous fuels reduction activities (such as thinning overstocked stands and brush); and (2) activities for rehabilitating and stabilizing lands and infrastructure (such as reseeding) impacted by wildland fires or fire suppression. The Departments reviewed over 3,000 hazardous fuel reduction and rehabilitation/stabilization projects and concluded that these categories of actions do not individually or cumulatively result in significant effects on the human environment. The intended effect of these two categorical exclusions is to facilitate efficient planning and timely decisions concerning treatment of hazardous fuels and stabilization and rehabilitation of areas so as to reduce risks to communities and the environment caused by severe fires.

The hazardous fuels reduction categorical exclusion will only apply to projects identified in a manner consistent with the collaborative framework in the 10-Year Comprehensive Strategy Implementation Plan. Moreover, these hazardous fuels reduction activities: (1) Would not be conducted in wilderness areas or where they would impair the suitability of wilderness study areas for preservation for wilderness; (2) would not include the use of herbicides or pesticides; (3) would not involve the construction of new permanent roads or other infrastructure, and (4) would not include activities such as timber sales that do not have hazardous fuels reduction as their primary purpose. Activities carried out under the rehabilitation and stabilization categorical exclusion would only take place after a wildfire. These activities cannot use herbicides or pesticides, nor include the construction of new permanent roads or other infrastructure. Activities conducted under either of the proposed categorical exclusions must be consistent with agency and Departmental procedures, land and resource management plans, and must comply with all applicable Federal, State, and tribal laws for protection of the environment (e.g., compliance with State standards for air quality). These categorical exclusions will not apply where there are extraordinary circumstances, such as adverse effects on threatened and endangered species or their designated critical habitat, wilderness areas, inventoried roadless areas, wetlands, and archeological or historic sites.

Hazardous fuels reduction and rehabilitation/stabilization activities will help reach the goal of restoring fire-adapted ecosystems, which will benefit many species and their habitat. Public comment is invited and will be considered in development of the final procedures.

DATES: Comments must be received in writing by January 15, 2003.

ADDRESSES: Mail written comments to: Healthy Forests Initiative, USDA FS Content Analysis Team, P.O. Box 221150, Salt Lake City, Utah 84116.

Comments also may be submitted via facsimile to (801) 517-1015 or by e-mail to healthyforests@fs.fed.us. If comments are sent via facsimile or e-mail, the public is requested not to send duplicate written comments via regular mail.

All comments, including names and addresses when provided, are placed in the record and are available for public inspection. Persons wishing to inspect the comments need to call (801) 517-1020 to facilitate an appointment.

FOR FURTHER INFORMATION CONTACT: Dave Sire, USDA Forest Service, Ecosystem Management Coordination, (202) 205-2935, or Willie Taylor, Department of the Interior, Office of Environmental Policy and Compliance, (202) 208-3891. Individuals who use telecommunication devices for the deaf (TDD) may call the Federal Information Relay Service (FIRS) at 1-800-877-8339 between 8 a.m. and 4 p.m., Eastern Standard Time, Monday through Friday. Additional information and analysis can be found under the Healthy Forests Initiative at http://www.fs.fed.us/projects/HFI.shtml.

SUPPLEMENTARY INFORMATION:

Overview

On August 22, 2002, President Bush established the Healthy Forests Initiative, directing the Departments of Agriculture and Interior and the Council on Environmental Quality to improve regulatory processes to ensure more timely decisions, greater efficiency, and better results in reducing the risk of catastrophic wildfires by restoring forest health.

In response to this direction, the Departments of Agriculture and the Interior propose two new categorical exclusions. The first, addressing hazardous fuels reduction projects, is intended to better protect lives, communities, and ecosystems from the risk of high-intensity wildland fire. The second, addressing rehabilitation and stabilization projects, is intended to better restore natural resources and infrastructure after a fire. These two proposed categorical exclusions will increase the ability of the agencies to expeditiously reduce hazardous fuels, thereby lowering the intensity and rapid spread of wildfires, and facilitate the agency's abilities to rapidly rehabilitate and stabilize burned areas to protect watersheds and resources.

Why Do the Departments Need the Proposed Categorical Exclusions?

As stated in the Administration's “Healthy Forests: An Initiative for Wildfire Prevention and Stronger Communities”, there are 190 million acres of Federal forests and rangelands in the 48 contiguous states at risk of severe wildland fires that threaten human safety, property, and ecosystem integrity. Drought conditions coupled with years of fuel buildup combine to make these lands vulnerable to intense, fast-moving fires that often are far more destructive than those in prior years. In the aftermath of wildland fires, timely rehabilitation and stabilization projects are critical to preventing additional threats to communities and ecosystems, such as soil erosion, mudslides, invasive species, and deteriorating watersheds.

The 2000 fire season, for example, was one of the worst in 50 years. Approximately 123,000 fires burned more than 8.4 million acres. The total acreage burned was more than twice the 10-year national average. At times, nearly 30,000 personnel were on the fire lines, including military and firefighters from other countries. More than $2 billion from Federal accounts was spent suppressing wildland fires. This amount does not include State and local firefighting suppression costs, direct and indirect economic losses to communities, loss of property, and damage to ecosystems.

The trend since 2000 has continued. During 2002, catastrophic wildfires continued to make national headlines, burning over 7.1 million acres. According to the General Accounting Office 1999 report, “Western National Forests—A Cohesive Strategy Is Needed to Address Catastrophic Wildfire Threats,” wildfires have increasingly become large, intense, and catastrophic in the currently denser stands of the national forests in the interior West. For example, the 2002 Rodeo Fire in Arizona grew from 800 to 46,000 acres in one day. In addition, Oregon and Colorado experienced unusually large fires, with Colorado's Hayman fire being five times larger than the previous largest recorded fire in that State's history.

Congress and the Executive Branch identified coordinated and strategic fuels treatment as necessary to undo a century of fuels buildup. In August 2000, the Secretaries of Agriculture and the Interior began an effort designed to reduce fire impacts on communities and ensure effective firefighting capacity in the future. The result was the National Fire Plan, which Congress later supported through appropriations language in the fiscal year (FY) 2001 appropriations act for the Department of the Interior and related agencies. As part of its direction, Congress mandated the creation of a coordinated national 10-year comprehensive strategy. The resulting strategy, “A Collaborative Approach for Reducing Wildland Fire Risks to Communities and the Environment 10-Year Comprehensive Strategy,” completed in August of 2001, was developed by Federal, State, tribal, and local government and non-governmental representatives. In May of 2002, these same parties completed the Implementation Plan for the 10-Year Comprehensive Strategy. The Implementation Plan establishes a performance-based framework for improving the management of wildland fire and hazardous fuels; meeting the need for ecosystem restoration and rehabilitation; implementing protective measures to reduce the risk of wildland fire to communities and environments and monitoring progress over time.

The unprecedented collaboration among Federal, State, tribal and local governments, citizens and groups reached a powerful consensus that immediate action was needed. Thus, the 10-Year Comprehensive Strategy Implementation Plan set four primary goals: (1) Improve fire prevention and suppression; (2) reduce hazardous fuels; (3) restore fire-adapted ecosystems; and (4) promote community assistance. For each goal, the 10-Year Comprehensive Strategy Implementation Plan identifies specific outcomes, performance measures, and implementation tasks that guide agency actions and measure performance. Moreover, a key implementation task under Goal Two of the 10-Year Comprehensive Strategy Implementation Plan requires agencies to assess regulatory processes governing hazardous fuels projects and activities done in conformance with the 10-Year Comprehensive Strategy and Implementation Plan and to identify measures to improve the timeliness of decisions. The proposed categorical exclusions respond to this task and the goal of restoring fire-adapted ecosystems under Goal Three of the 10-Year Comprehensive Strategy Implementation Plan.

The proposed categorical exclusions will provide the departments with identical management tools that will improve consistency and cooperation among Federal agencies in the implementation of hazardous fuels reduction, stabilization, and rehabilitation projects. This improved cooperation will, in turn, foster more effective collaboration among Federal, State, tribal, and local governments and interested stakeholders consistent with the 10-Year Comprehensive Strategy Implementation Plan.

What Is a Categorical Exclusion?

The National Environmental Policy Act (NEPA), and accompanying Council on Environmental Quality (CEQ) regulations (40 CFR 1500), require that each agency establish specific criteria for and identification of three types of actions: (1) Those that require preparation of an environmental impact statement; (2) those that require the preparation of an environmental assessment; and (3) those that are categorically excluded from further analysis and documentation in an environmental assessment or an environmental impact statement. Actions qualify for (3), a categorical exclusion, if they do not individually or cumulatively have a significant impact on the human environment and warrant no further analysis and documentation in an environmental assessment or an environmental impact statement. Agencies must, however, recognize the exceptions to the application of a categorical exclusion that extraordinary circumstances may require.

A categorical exclusion is not an exemption from the requirements of NEPA. Categorical exclusions are an essential part of NEPA that provide a categorical determination that the activities do not result in significant impacts, eliminating the need for individual analyses and lengthier documentation. CEQ regulations at 40 CFR 1500.4(p), 1507.3 and 1508.4 direct agencies to use categorical exclusions to define categories of actions which do not individually or cumulatively have a significant effect on the human environment and do not require the preparation of an environmental assessment or an environmental impact statement, thereby reducing excessive paperwork.

Current United States Department of Agriculture (USDA) Forest Service procedures for complying with and implementing NEPA are set out in Forest Service Handbook (FSH) 1909.15, Chapter 30, which establishes two types of categorical exclusions. The first, set out at section 31.1, consists of categories of actions that are so routine and limited that a record is not required. The second type, set out at section 31.2, consists of categories of actions that require documentation in a Decision Memo that explains the rationale for applying a categorical exclusion and not preparing an environmental assessment or an environmental impact statement. The two categorical exclusions proposed in this notice would fall within the Forest Service's second type of categorical exclusion that requires a Decision Memo.

Current Department of the Interior procedures for complying with NEPA are set out in Departmental Manual 516 DM. Department-wide categorical exclusions are established in 516 DM, chapter 2, Appendix 1. In applying the categorical exclusions, bureaus must make a determination that the exemptions do not apply. No specific form of documentation has previously been required for this determination. While the Department of the Interior has not required formal documentation of its department-wide categorical exclusions, many bureaus of the Department of the Interior prescribe some formal documentation for their bureau-specific categorical exclusions. Due to the desire to have comparable categorical exclusions and consistency in use, the Department of the Interior will issue instructions for documenting and distributing the rationale for applying either of these two proposed categorical exclusions, consistent with Forest Service procedures.

As directed by the CEQ regulations at 40 CFR 1508.4, both the USDA Forest Service and the Department of the Interior procedures provide for extraordinary circumstances in which a normally excluded action may have a significant environmental effect. Extraordinary circumstances occur, for example, where proposed actions would have adverse effects on federally listed threatened and endangered species or their designated critical habitat, wilderness areas, inventoried roadless areas, wetlands, and archeological or historic sites. Where extraordinary circumstances occur, project analyses are documented in an environmental assessment or environmental impact statement. The proposed categorical exclusions would be applied in the absence of extraordinary circumstances in accordance with departmental procedures. The USDA Forest Service provisions for extraordinary circumstances are set out in FSH 1909.15, section 30.3. The Department of the Interior provisions for extraordinary circumstances, called exceptions, are set out in 516 DM, chapter 2, Appendix 2. USDA Forest Service and the Department of the Interior provisions for extraordinary circumstances may be viewed at http://www.fs.fed.us/projects/HFI.shtml.

Explanation of Proposed Categorical Exclusions

The USDA Forest Service and the Department of the Interior are proposing two categorical exclusions. These categorical exclusions would apply to National Forest System lands and to lands managed by the Department of the Interior agencies, including lands administered by the Bureau of Land Management, National Park Service, Fish and Wildlife Service, the Bureau of Indian Affairs, and the Bureau of Reclamation.

The first categorical exclusion proposed by the USDA Forest Service and the Department of the Interior addresses hazardous fuels reduction projects. Hazardous fuels consist of combustible vegetation (live or dead), such as grass, leaves, ground litter, plants, shrubs, and trees, that contribute to the threat of ignition and high fire intensity and/or high rate of spread. Hazardous fuels reduction involves manipulation, including combustion or removal of fuels, to reduce the likelihood of ignition and/or to lessen potential damage to the ecosystem from intense wildfire and to create conditions where firefighters can safely and effectively control wildfires. Activities that could be conducted under this proposed categorical exclusion are the thinning of trees (commercial or pre-commercial as identified in the 10-Year Comprehensive Strategy Implementation Plan) and the removal of combustible vegetation through mechanical means, grazing, and the use of prescribed fire.

The second proposed category addresses rehabilitation and stabilization of resources and infrastructure in the aftermath of a fire. Activities that could be conducted under this proposed categorical exclusion include rehabilitation of habitat, watersheds, and infrastructure impacted by wildfire and/or wildfire suppression. Reseeding or planting, fence construction, culvert repair, installation of erosion control devices, and repair of roads and trails are examples of activities necessary for the stabilization and rehabilitation of habitat, watersheds, historical, archeological, and cultural sites, and infrastructure impacted by wildfire and/or wildfire suppression.

When Will the Categorical Exclusions Be Used?

The hazardous fuels reduction categorical exclusion will be applicable only to projects identified in a manner that is consistent with the collaborative framework in the 10-Year Comprehensive Strategy Implementation Plan. Additionally, categorically excluded hazardous fuels reduction activities would not be conducted in wilderness areas or where they would impair the suitability of wilderness study areas for preservation as wilderness. Categorically excluded hazardous fuels reduction activities are further limited in that they cannot include the use of herbicides or pesticides or the construction of new permanent infrastructure. Infrastructure may be reconstructed, but no new permanent roads or new permanent construction may take place under this categorical exclusion.

Activities carried out under the rehabilitation and stabilization categorical exclusion would apply only to activities in the aftermath of a wildfire. Such activities are further limited in that they cannot include the use of pesticides or the construction of new permanent infrastructure. Infrastructure may be reconstructed, but no new permanent roads or new permanent construction may take place under this categorical exclusions.

Activities conducted using the proposed categorical exclusions must be consistent with agency and Departmental procedures, and with applicable land and resource management plans. For example, procedures and plans call for appropriate buffers from riparian areas or areas containing cultural or historical artifacts and for timing activities to avoid species of concern and sensitive species nesting periods. Products generated by use of mechanical methods under the proposed hazardous fuel reduction categorical exclusion would be sold or otherwise utilized or disposed of in accordance with agency and Departmental procedures.

In addition, the activities under both proposed categorical exclusions must meet all applicable Federal, State, and tribal laws or other requirements imposed for protection of the environment. For example, the Clean Air Act requires compliance with State standards for air quality. A categorical exclusion would not be used if air quality standards could not be met. Similarly, the Wilderness Act provides certain protections for areas designated by Congress as wilderness areas. Categorical exclusions would not be used where a proposed activity may have adverse effects on wilderness characteristics.

In addition, agencies can avoid significant environmental effects by following agency procedures related to compliance with other applicable laws. For example, effects on archeological and cultural resources can often be mitigated simply by identifying and avoiding those resources. As another example, the use of fire is coordinated with State regulatory agencies concerned with air quality to ensure that burning is carried out when atmospheric conditions are favorable to smoke dispersal.

In using categorical exclusions, agencies must continue conducting appropriate consultations with Federal and State regulatory agencies, such as those required by the Endangered Species Act and the National Historic Preservation Act. Activities categorically excluded from documentation in an environmental assessment or an environmental impact statement must still be evaluated to assess effects on threatened and endangered species, and undergo an appropriate level of consultation with the U.S. Fish and Wildlife Service or the National Marine Fisheries Service. Similarly, categorically excluded activities undergo surveys and evaluation of effects on properties protected by the National Historic Preservation Act, along with appropriate consultation with State Historic Preservation Officers. Such consultations help ensure that cumulative effects across jurisdictions will not be significant. The USDA Forest Service and the Department of the Interior invite comments on any additional factors to consider in crafting the final categorical exclusions that address the scope of their implementation.

Rationale for the Proposal

The Departments have extensive experience in hazardous fuels management, as well as in stabilization and rehabilitation of resources following a wildfire. In examining the basis for proposing these two categorical exclusions, the USDA Forest Service and the Department of the Interior reviewed projects that were undertaken for hazardous fuels reduction, and rehabilitation/stabilization. Some projects involved multiple activities of these types. The information review included 30 different data items for each project, including information on project location and size, vegetation cover type, fuels treatment type, predicted environmental effects, actual environmental effects after project completion, and mitigation measures. Environmental effects include ecological, aesthetic, historic, cultural, economic, social, or health effects as defined in 40 CFR 1508.8.

The agencies reviewed over 3,000 hazardous fuels reduction and rehabilitation/stabilization projects completed in FY 1998 through FY 2002; of these, over half were documented with environmental assessments, less than 50 were documented with environmental impact statements, and the remainder were categorically excluded from either of these types of documentation under existing categorical exclusions. Only 12 of these environmental impact statements contained predictions of significant environmental effects from hazardous fuels reduction and rehabilitation/stabilization activities. Current USDA Forest Service and the Department of the Interior NEPA procedures would preclude the application of any categorical exclusion to these 12 projects because of extraordinary circumstances. Had the 12 projects been considered for a categorical exclusion they would not have qualified because of extraordinary circumstances stemming from adverse effects on threatened and endangered species and uncertainty over the significance of effects on air quality and water quality.

The review indicates that hazardous fuels reduction activities and rehabilitation/stabilization activities, absent extraordinary circumstances, do not individually or cumulatively have significant effects on the human environment. A summary of the review is available at http://www.fs.fed.us/projects/HFI.shtml.

The CEQ regulations state that categorically excluded actions must not individually or cumulatively have a significant effect on the human environment (40 CFR 1508.4). Based on the previously discussed application of environmental laws, agency procedures, and the aforementioned review of the over 3,000 hazardous fuels reduction and rehabilitation/stabilization activities, the agencies conclude that the proposed categories of actions do not individually or cumulatively have significant effects on the human environment and, therefore, do not require either an environmental assessment or an environmental impact statement.

Monitoring Performance

Under the 10-Year Comprehensive Strategy Implementation Plan, the Secretaries of the Interior and the USDA have committed to a formal review process to monitor and evaluate performance, suggest revisions, and make necessary adaptations to the Strategy in collaboration with Federal, State, tribal, and local stakeholders. The agencies will conduct monitoring of selected collaboratively developed projects and activities to assess the progress and effectiveness of planning and implementation. Projects implemented under these proposed categorical exclusions will be included in this review.

Any revisions to the 10-Year Comprehensive Strategy Implementation Plan will integrate new information obtained from scientific research and on-the-ground experiences. As part of this monitoring and evaluation, the effectiveness of hazardous fuels reduction and rehabilitation/stabilization projects and the application of categorical exclusions will be reviewed. Based on monitoring results these categorical exclusions may be augmented or modified. Future modifications to these proposed categorical exclusions, if necessary, would be based in part on the results of monitoring and would involve additional public review.

The actual mechanism for monitoring will be the National Fire Plan Operations and Reporting System (NFPORS).

At the onset of the National Fire Plan, the wildland fire agencies identified the need for tools to assist them in capturing, monitoring and reporting accomplishments. While each agency had some mechanisms in place to meet accountability requirements, the agencies did not have an overarching system capable of providing sufficient analysis and reporting. Instead, each organization relied on a variety of disparate mechanisms for tracking and reporting hazardous fuels accomplishments.

In order to provide a single, unified interagency system, the Department of Interior teamed with the USDA Forest Service to develop the NFPORS. The system will collect data in the areas of restoration and rehabilitation, hazardous fuels reduction, community assistance, and the method of NEPA compliance (categorical exclusion, environmental assessment, or environmental impact statement).

Public Involvement in the Use of the Proposed Categories

The 10-Year Comprehensive Strategy provides a collaborative framework for the selection and prioritization of hazardous fuels reduction projects which includes extensive public participation. Use of the proposed hazardous fuels reduction categorical exclusion to meet the goals of the 10-Year Comprehensive Strategy will, therefore, include the public as provided in the collaborative framework.

Indeed, local involvement is the primary source of annual hazardous fuels project planning, prioritization, and resource allocation. The amount of collaboration at the local level will be consistent with the complexity of land ownership patterns, resource management issues, and the number of interested stakeholders. The hazardous fuels reduction categorical exclusion will be applicable only to projects identified consistent with this collaborative framework.

Conclusion

Consistent with direction provided by the President under the Healthy Forests Initiative and the 10-Year Comprehensive Strategy Implementation Plan, the agencies propose two new categorical exclusions: one for hazardous fuels reduction and one for stabilization and rehabilitation of resources and infrastructure after a fire. Based upon a review of field data, the agencies conclude that actions identified in the proposed categories would not individually or cumulatively have significant effects on the human environment and, therefore, would not require preparation of an environmental assessment or an environmental impact statement.

These proposed categorical exclusions would permit timely response to forest health problems involving hazardous fuels and would provide for timely stabilization and rehabilitation of resources and infrastructure impacted by fire and/or wildfire suppression. Public comment is invited on this proposal and will be considered in adopting final categorical exclusions. The text of the proposed categorical exclusions is set out at the end of this notice.

Regulatory Certifications

Environmental Impact

These proposed categorical exclusions would add direction to guide field employees in the USDA Forest Service and the Department of the Interior regarding requirements for National Environmental Policy Act (NEPA) documentation for fire management activities. Forest Service Handbook 1909.15, section 31.1b categorically excludes from documentation in an environmental assessment or environmental impact statement “rules, regulations, or policies to establish Service-wide administrative procedures, program processes, or instructions.” Department of the Interior Manual 516 DM, chapter 2, Appendix 1 categorically excludes from documentation in an environmental assessment or environmental impact statement “policies, directives, regulations, and guidelines of an administrative, financial, technical, or procedural nature.” The agencies' preliminary assessment is that these proposed categorical exclusions fall within these categories of actions in the absence of extraordinary circumstances. A final determination will be made upon adoption of the final categorical exclusions. In addition, pursuant to 40 CFR 1505.1 and 1507.3, the USDA Forest Service and the Department of the Interior are consulting with the Council on Environmental Quality (CEQ) to ensure full compliance with the purposes and provisions of NEPA and the CEQ implementing regulations.

Regulatory Impact

These proposed categorical exclusions have been reviewed under Departmental procedures and Executive Order 12866 on Regulatory Planning and Review. The Office of Management and Budget (OMB) has determined that this is a significant regulatory action as defined by Executive Order 12866. Accordingly, OMB has reviewed these proposed categorical exclusions.

This action to add two categorical exclusions to the agencies' NEPA procedures will not have an annual effect of $100 million or more on the economy or adversely affect productivity, competition, jobs, the environment, public health or safety, or State, tribal, or local governments. This action may interfere with an action taken or planned by another agency or raise new legal or policy issues. Finally, this action will not alter the budgetary impact of entitlements, grants, user fees, or loan programs or the rights and obligations of recipients of such programs. Accordingly, this action is subject to Office of Management and Budget review under Executive Order 12866.

Moreover, this action has been considered in light of the Regulatory Flexibility Act (5 U.S.C. 601 et seq.), and it is hereby certified that the proposed categorical exclusions will not have a significant economic impact on a substantial number of small entities as defined by the act because it will not impose record-keeping requirements on them; it will not affect their competitive position in relation to large entities; and it will not affect their cash flow, liquidity, or ability to remain in the market.

Federalism

The agencies have considered these proposed categorical exclusions under the requirements of Executive Order 13132, Federalism, and have concluded that they conform with the federalism principles set out in this Executive Order; will not impose any compliance costs on the States; and will not have substantial direct effects on the States or the relationship between the national government and the States, or on the distribution of power and responsibilities among the various levels of government. Therefore, the agencies have determined that no further assessment of federalism implications is necessary.

Consultation and Coordination With Indian Tribal Governments

These proposed categorical exclusions do not have tribal implications as defined by Executive Order 13175, Consultation and Coordination with Indian Tribal Governments, and therefore advance consultation with tribes is not required.

No Takings Implications

These proposed categorical exclusions have been analyzed in accordance with the principles and criteria contained in Executive Order 12630, Governmental Actions and Interference with Constitutionally Protected Property Rights, and it has been determined that the proposed categorical exclusions do not pose the risk of a taking of Constitutionally protected private property.

Civil Justice Reform

In accordance with Executive Order 12988, it has been determined that these categorical exclusions do not unduly burden the judicial system and that they meet the requirements of sections 3(a) and 3(b)(2) of the Order.

Unfunded Mandates

Pursuant to title II of the Unfunded Mandates Reform Act of 1995 (2 U.S.C. 1531-1538), which the President signed into law on March 22, 1995, the agencies have assessed the effects of these proposed categorical exclusions on State, local, and tribal governments and the private sector. These proposed categorical exclusions do not compel the expenditure of $100 million or more by any State, local, or tribal government or anyone in the private sector. Therefore, a statement under section 202 of the act is not required.

Energy Effects

These proposed categorical exclusions have been reviewed under Executive Order 13211, Actions Concerning Regulations That Significantly Affect Energy Supply, Distribution, or Use. It has been determined that these proposed categorical exclusions do not constitute a significant energy action as defined in the Executive order.

Controlling Paperwork Burdens on the Public

These proposed categorical exclusions do not contain any additional record keeping or reporting requirements or other information collection requirements as defined in 5 CFR part 1320 that are not already required by law or not already approved for use, and therefore, impose no additional paperwork burden on the public. Accordingly, the review provisions of the Paperwork Reduction Act of 1995 (44 U.S.C. 3501 et seq.) and its implementing regulations at 5 CFR part 1320 do not apply.

For the Forest Service, U.S. Department of Agriculture.
Dated: December 10, 2002.
Dale N. Bosworth,
Chief.
For the U.S. Department of the Interior.
Dated: December 11, 2002.
Christopher B. Kearney,
Acting Assistant Secretary for Policy, Management and Budget.

Proposed Categorical Exclusions

Note: When the proposed categorical exclusions have been finalized, the USDA Forest Service and the Department of the Interior will issue the categorical exclusions in their NEPA procedures. The categorical exclusions would appear in Forest Service Handbook (FSH) 1909.15, Environmental Policy and Procedures, section 31.2 and Department of the Interior Manual 516 DM, chapter 2, Appendix 1, Departmental Categorical Exclusions. Reviewers who wish to view the entire chapter 30 of FSH 1909.15 may obtain a copy electronically from the USDA Forest Service directives page on the World Wide Web at http://www.fs.fed.us/im/directives/. Reviewers who wish to view the Department of the Interior Manual 516 DM may obtain a copy electronically from the Department of the Interior page at http://elips.doi.gov/table.cfm.

Following is the text of the two categorical exclusions:

• Hazardous fuels reduction activities (prescribed fire, and mechanical or biological methods such as crushing, piling, thinning, pruning, cutting, chipping, mulching, grazing and mowing) when the activity has been identified consistent with the framework described in A Collaborative Approach for Reducing Wildland Fire Risks to Communities and the Environment 10-Year Comprehensive Strategy Implementation Plan. Such activities:

—Shall be conducted consistent with agency and Departmental procedures and land and resource management plans; and

—Shall not be conducted in wilderness areas or impair the suitability of wilderness study areas for preservation as wilderness; and

—Shall not include the use of herbicides or pesticides or the construction of new permanent roads or other new permanent infrastructure.

• Activities (such as reseeding or planting, fence construction, culvert repair, installation of erosion control devices, and repair of roads and trails) necessary for the stabilization and rehabilitation of habitat, watersheds, historical, archeological, and cultural sites and infrastructure impacted by wildfire and/or wildfire suppression. Such activities:

—Shall be conducted consistent with agency and Departmental procedures and land and resource management plans; and

—Shall not include the use of herbicides or pesticides or the construction of new permanent roads or other new permanent infrastructure.

[FR Doc. 02-31576 Filed 12-11-02; 3:00 pm]

BILLING CODE 3410-11 and 4310-70-P